DEPARTMENT OF TRANSPORTATION

Federal Aviation Administration

14 CFR Part 39

[Docket No. FAA-2005-22794; Directorate Identifier 2005-NM-097-AD; Amendment 39-14536; AD 2006-07-09]

RIN 2120-AA64

Airworthiness Directives; Airbus Model A318-100 and A319-100 Series Airplanes; Model A320-111 Airplanes; and Model A320-200, A321-100, and A321-200 Series Airplanes

AGENCY: Federal Aviation Administration (FAA), Department of Transportation (DOT).

ACTION: Final rule.

SUMMARY: The FAA is adopting a new airworthiness directive (AD) for all Airbus Model A318-100 and A319-100 series airplanes; Model A320-111 airplanes; and Model A320-200, A321-100, and A321-200 series airplanes. This AD requires repetitive detailed inspections of the trimmable horizontal stabilizer actuator (THSA) attachments for proper clearances, and any crack, damage, or metallic particles; related corrective actions if necessary; and a report of the inspection results to the manufacturer. This AD results from a report that during lab testing to verify the performance of the THSA's secondary load path with a simulated failure of the THSA's primary load path, the secondary load path's nut did not jam (as it was supposed to do). We are issuing this AD to ensure the integrity of the THSA's primary load path, which if failed, could result in latent (undetected) loading and eventual failure of the THSA's secondary load path and consequent uncontrolled movement of the horizontal stabilizer and loss of control of the airplane.

DATES: This AD becomes effective May 5, 2006.

The Director of the Federal Register approved the incorporation by reference of a certain publication listed in the AD as of May 5, 2006.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A318-100 and A319-100 series airplanes; Model A320-111 airplanes; and Model A320-200, A321-100, and A321-200 series airplanes. That NPRM was published in the Federal Register on October 27, 2005 (70 FR 61922). That NPRM proposed to require repetitive detailed inspections of the trimmable horizontal stabilizer actuator (THSA) attachments for proper clearances, and any crack, damage, or metallic particles; related corrective actions if necessary; and a report of the inspection results to the manufacturer.

Comments

We provided the public the opportunity to participate in the development of this AD. We have considered the comments received.

Updated Service Information

Since we published the NPRM, we have reviewed Airbus Service Bulletin A320-27-1164, Revision 03, including Appendix 01, dated August 24, 2005. The actions described in this service bulletin are essentially the same as the service bulletin we referenced in the NPRM, Airbus Service Bulletin A320-27-1164, Revision 02, including Appendix 01, dated March 30, 2005, except for some minor procedural changes in the order of some steps and when an operator should submit an inspection report. We have revised paragraph (f) of this AD to update the reference to Revision 03 of the service bulletin, and have added paragraph (h) to this AD to allow credit for previous actions done in accordance with Revision 02 of the service bulletin.

Supportive Comments

Three commenters (Airbus, a pilot representing Spirit Airlines pilots, and the Air Line Pilots Association) support the AD. Air Transport Association (ATA) members “generally support the intent of the rulemaking.”

Request To Extend Compliance Time for Repetitive Inspections

The ATA, on behalf of Northwest Airlines, requests that we extend the repetitive inspection interval from 20 months to approximately 21-22 months. The ATA states that accomplishing the repetitive inspections of the THSA attachments at intervals of 20 months would put a significant financial and logistical burden on some operators because some operators have heavy maintenance schedules that exceed the 20-month interval. Northwest Airlines, in its comments, also states that it is not aware of any substantiating data that would limit the inspection interval and believes the increase in the inspection interval would not affect the level of safety.

We do not agree to increase the inspection interval. The ATA did not provide any substantive data to support an increase. In addition, the manufacturer does not support any increase beyond the 20-month inspection interval, until it completes additional testing. We may consider a request for an alternative method of compliance (AMOC) if data is provided to support such a request. This AD remains unchanged in this regard.

Request To Remove Requirement To Inspect Upper THSA Attachments

The ATA, on behalf of U.S. Airways, states that, if the gap clearance of the lower THSA attachment is within limits, then an inspection of the upper THSA attachment is unnecessary. The ATA contends that if the lower THSA attachment shows no sign of damage, there would be no additional loading on the upper THSA attachment. Further, U.S. Airways notes that if the gap clearance of the lower THSA attachment is incorrect, then the THSA is replaced. Part of the replacement procedures involve inspecting all of the THSA attachments, thus eliminating any safety concerns with the actuator or attachments.

We infer that the ATA requests that we remove the requirement to inspect the upper THSA attachment. We do not agree to remove the inspection requirement for the upper THSA attachment. The designs of both attachments include primary and secondary load paths that operate independently of each other. Therefore, a finding of proper clearance during the lower THSA attachment's inspection is no guarantee that the upper THSA attachment is not damaged. This AD has not changed in this regard.

Request To Allow Credit for Previously Accomplished Inspections

US Airways also requests that we mandate the actions of Airbus Alert Service Bulletin A320-27A1164, dated September 10, 2004, to prevent unnecessary work for operators that have performed lower THSA attachment inspections in accordance with that service bulletin.

We disagree with U.S. Airways' request to mandate the alert service bulletin. However, we agree to allow credit for the alert service bulletin as it applies to the lower THSA attachment. Since the publication of the alert service bulletin and of Airbus Service Bulletin A320-27-1164, Revision 01, including Appendix 01, dated December 17, 2004, it has been found that an inspection of the upper THSA attachment is also necessary. Therefore, the actions in the alert service bulletin and Revision 01 are acceptable only for the lower THSA attachment. The upper THSA attachment must be inspected in accordance with Revision 03, dated August 24, 2005, or have been inspected before the effective date of this AD in accordance with Revision 02, dated March 30, 2005. Paragraph (i) of this AD has been added to allow credit for the lower THSA attachment inspection(s).

Conclusion

We have carefully reviewed the available data, including the comments received, and determined that air safety and the public interest require adopting the AD with the changes described previously. We have determined that these changes will neither increase the economic burden on any operator nor increase the scope of the AD.

Costs of Compliance

This AD will affect about 700 airplanes of U.S. registry. The actions will take about 1 work hour per airplane, at an average labor rate of $65 per work hour. Based on these figures, the estimated cost of the AD for U.S. operators is $45,500, or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-09 Airbus: Amendment 39-14536. Docket No. FAA-2005-22794; Directorate Identifier 2005-NM-097-AD.

Effective Date

(a) This AD becomes effective May 5, 2006.

Affected ADs

(b) None.

Applicability

(c) This AD applies to all Airbus Model A318-111 and -112 airplanes; Model A319-111, -112, -113, -114, -115, -131, -132, and -133 airplanes; Model A320-111 airplanes; Model A320-211, -212, -214, -231, -232, and -233 airplanes; Model A321-111, -112, and -131 airplanes, and Model A321-211, -212, -213, -231 and -232 airplanes; certificated in any category.

Unsafe Condition

(d) This AD results from a report that during lab testing to verify the performance of the trimmable horizontal stabilizer actuator's (THSA's) secondary load path with a simulated failure of the THSA's primary load path, the secondary load path's nut did not jam (as it was supposed to do). We are issuing this AD to ensure the integrity of the THSA's primary load path, which if failed, could result in latent (undetected) loading and eventual failure of the THSA's secondary load path and consequent uncontrolled movement of the horizontal stabilizer and loss of control of the airplane.

Compliance

(e) You are responsible for having the actions required by this AD performed within the compliance times specified, unless the actions have already been done.

Repetitive Inspections and Corrective Action

(f) Within 20 months since first flight, or within 600 flight hours after the effective date of this AD, whichever occurs later, do detailed inspections of the THSA attachments for proper clearances and any crack, damage, or metallic particles, and do related corrective actions as applicable, in accordance with the Accomplishment Instructions of Airbus Service Bulletin A320-27-1164, Revision 03, including Appendix 01, dated August 24, 2005, except as described in paragraph (g) of this AD. Do corrective actions before further flight. Thereafter, repeat the inspections at intervals not to exceed 20 months.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) If any metallic particles are detected during the inspection required by paragraph (f) of this AD: Before further flight, repair the damage according to a method approved by either the Manager, International Branch, ANM-116, FAA, Transport Airplane Directorate; or the Direction Générale de l'Aviation Civile (DGAC) (or its delegated agent).

Previous Actions

(h) Actions done before the effective date of this AD in accordance with Airbus Service Bulletin A320-27-1164, Revision 02, including Appendix 01, dated March 30, 2005, are acceptable for compliance with the requirements of paragraph (f) of this AD.

(i) Inspections of the lower THSA attachment done before the effective date of this AD in accordance with Airbus Alert Service Bulletin A320-27A1164, dated September 10, 2004; or Airbus Service Bulletin A320-27-1164, Revision 01, including Appendix 01, dated December 17, 2004; are acceptable for compliance with the lower THSA attachment inspection requirements of paragraph (f) of this AD.

Inspection Reports

(j) Submit a report of the findings (both positive and negative) of the inspection required by paragraph (f) of this AD to Airbus, 1 Rond Point Maurice Bellonte, 31707 Blagnac Cedex, France, at the applicable time specified in paragraph (j)(1) or (j)(2) of this AD. The report must include the inspection results, a description of any discrepancies found, the airplane serial number, and the number of landings and flight hours on the airplane. Appendix 01 of Airbus Service Bulletin A320-27-1164, Revision 02, dated March 30, 2005, or of Revision 03, dated August 24, 2005, is an acceptable method to comply with this paragraph. Under the provisions of the Paperwork Reduction Act (44 U.S.C. 3501 et seq.), the Office of Management and Budget (OMB) has approved the information collection requirements contained in this AD and has assigned OMB Control Number 2120-0056.

(1) If the inspection was done after the effective date of this AD: Submit the report within 30 days after the inspection.

(2) If any inspection was accomplished prior to the effective date of this AD: Submit the report within 30 days after the effective date of this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directive F-2005-051, dated March 30, 2005, also addresses the subject of this AD.

Material Incorporated by Reference

(m) You must use Airbus Service Bulletin A320-27-1164, Revision 03, including Appendix 01, dated August 24, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 22, 2006.
Michael Zielinski,
Acting Manager, Transport Airplane Directorate, Aircraft Certification Service.

[FR Doc. 06-3062 Filed 3-30-06; 8:45 am]

BILLING CODE 4910-13-P